DEPARTMENT OF COMMERCE

International Trade Administration

Notice of Scope Rulings

AGENCY: Import Administration, International Trade Administration, Department of Commerce.

DATES: Effective Date: September 29, 2009.

SUMMARY: The Department of Commerce (“Department”) hereby publishes a list of scope rulings completed between April 1, 2009, and June 30, 2009. In conjunction with this list, the Department is also publishing a list of requests for scope rulings and anticircumvention determinations pending as of June 30, 2009. We intend to publish future lists after the close of the next calendar quarter.

FOR FURTHER INFORMATION CONTACT: Jennifer Moats or Julia Hancock, AD/CVD Operations, China/NME Group, Import Administration, International Trade Administration, U.S. Department of Commerce, 14th Street and Constitution Avenue, NW., Washington, DC 20230; telephone: 202-482-5047 or 202-482-1394, respectively.

SUPPLEMENTARY INFORMATION:

Background

The Department's regulations provide that the Secretary will publish in the Federal Register a list of scope rulings on a quarterly basis. See 19 CFR 351.225(o). Our most recent notification of scope rulings was published on August 27, 2009. See Notice of Scope Rulings, 74 FR 43680 (August 27, 2009). This current notice covers all scope rulings and anticircumvention determinations completed by Import Administration between April 1, 2009, and June 30, 2009, inclusive, and it also lists any scope or anticircumvention inquiries pending as of June 30, 2009. As described below, subsequent lists will follow after the close of each calendar quarter.

Scope Rulings Completed Between April 1, 2009, and June 30, 2009

Japan

A-588-804: Ball Bearings and Parts Thereof from Japan:

Requestor: NMB (USA), Inc. (“NMB”); tape guide assemblies imported and purchased for sale by NMB are outside the scope of the antidumping duty order; June 1, 2009.

A-588-602: Certain Carbon Steel Butt-Weld Pipe Fittings from Japan:

Requestor: Benex Corporation (“Benex”); Benex's tee blanks are within the scope of the antidumping duty order; June 25, 2009.

People's Republic of China

A-570-504: Petroleum Wax Candles from the People's Republic of China:

Requestor: America's Gardening Resource; its citronella rope candles are outside the scope of the antidumping duty order; April 29, 2009.

A-570-504: Petroleum Wax Candles from the People's Republic of China:

Requestor: ZNP Creative Co., Ltd.; the “5 minute Candle Set” is within the scope of the antidumping duty order; May 6, 2009.

A-570-504: Petroleum Wax Candles from the People's Republic of China:

Requestor: RAB Foods; the “Yahrzeit” candle is within the scope of the antidumping duty order; June 1, 2009.

A-570-827: Cased Pencils from the People's Republic of China:

Requestor: It's Academic, Inc. (“It's Academic”); certain It's Academic compasses with pencils (“Bow Compass” (item number 01350), “Metal Compass” (item number 01341), “Retractable Point Compass” (item number 01330), “Compass made of recycled products” (item number 41360), and “Regular Compass” (item number 01302)) are outside the scope of the antidumping duty order; June 23, 2009.

A-570-868: Folding Metal Tables and Chairs from the People's Republic of China:

Requestor: New Tec Integration Co., Ltd. (“New Tec”); New Tec's chair using two U-shaped steel tubes to form the front and rear legs, and not utilizing the cross-bracing typically affixed to the leg frame by rivets, welds, and fasteners, is within the scope of the antidumping duty order; May 22, 2009.

A-570-890: Wooden Bedroom Furniture from the People's Republic of China:

Requestor: Target Corporation; the Shabby Chic secretary desk and mirror are outside the scope of the antidumping duty order; April 15, 2009.

A-570-891: Hand Trucks from the People's Republic of China:

Requestor: Safco Products Co.; the StowAway Cart (Model 4062) and Stow And Go Cart (Model 4049) are outside the scope of the antidumping duty order; June 10, 2009.

A-570-891: Hand Trucks from the People's Republic of China:

Requestor: E & B Giftware, LLC; the Samsonite Micro Mover Fold Away Carry-On Luggage Cart and the American Tourister Swing Wheel Luggage Cart are within the scope of the antidumping duty order; the Samsonite Compact Luggage Cart is outside the scope of the antidumping duty order; May 29, 2009.

A-570-899: Artist Canvas from the People's Republic of China:

Requestor: C2F, Inc.; framed artist canvas in two forms (i.e., 65% polyester, 35% cotton bulk or 100% cotton bulk) woven in the Republic of Korea and cut and framed in the People's Republic of China are outside the scope of the antidumping duty order; May 25, 2009.

A-570-901: Lined Paper Products from the People's Republic of China:

Requestor: PlanAhead LLC; writing cases, writing portfolios, portfolios and padfolios, 70314 Professional Padfolio; 70689 Contour Padfolio; 72055 Urban Padfolio; 72537 Fashion Padfolio, are outside the scope of the antidumping duty order; April 2, 2009.

A-570-909: Certain Steel Nails from the People's Republic of China:

Requestor: Shanghai March Import & Export Co., Ltd.; the horseshoe nails exported by Shanghai March Import & Export Co., Ltd. are outside the scope of the antidumping duty order; June 5, 2009.

Anticircumvention Determinations Completed Between April 1, 2009, and June 30, 2009

A-570-894: Certain Tissue Paper Products from the People's Republic of China:

Requestor: Seaman Paper Company of Massachusetts, Inc.; imports of certain tissue paper products from Thailand made out of jumbo rolls and sheets of tissue paper from the People's Republic of China and completed or assembled in other foreign countries are circumventing the antidumping duty order; June 19, 2009.

A-570-868: Folding Metal Tables and Chairs from the People's Republic of China:

Requestor: Meco Corporation; the common leg table (a folding metal table affixed with cross bars that enable the legs to fold in pairs) produced in the People's Republic of China is a minor alteration that circumvents the antidumping duty order; May 6, 2009.

Scope Inquiries Terminated Between April 1, 2009, and June 30, 2009

Japan

A-588-046: Polychloroprene Rubber from Japan:

Requestor: Denka Corporation (“Denka”); whether Denka's solid polychloroprene product, known as DCR37, is within the scope of the antidumping duty order; May 5, 2009, request withdrawn.

Anticircumvention Inquiries Terminated between April 1, 2009, and June 30, 2009

None.

Scope Inquiries Pending as of June 30, 2009

Germany

A-428-801: Ball Bearings and Parts from Germany:

Requestor: The Schaeffler Group; whether certain ball roller bearings are within the scope of the antidumping duty order, requested April 28, 2009.

Norway

A-403-801 and C-403-802: Fresh and Chilled Atlantic Salmon from Norway:

Requestor: Changing Seas; whether its whole salmon steaks are within the scope of the antidumping and countervailing duty orders; requested February 5, 2009.

People's Republic of China

A-570-504: Petroleum Wax Candles from the People's Republic of China:

Requestor: Trade Associates Group, Ltd.; whether its candles (multiple designs) are within the scope of the antidumping duty order; requested June 11, 2009.

A-570-504: Petroleum Wax Candles from the People's Republic of China:

Requestor: Sourcing International, LLC; whether its flower candles are within scope of the antidumping duty order; requested June 24, 2009.

A-570-806: Silicon Metal from the People's Republic of China:

Requestor: Globe Metallurgical Inc.; whether certain silicon metal exported by Ferro-Alliages et Mineraux to the United States from Canada is within the scope of the antidumping duty order; requested October 1, 2008.

A-570-814: Certain Carbon Steel Butt-Weld Pipe Fittings from the People's Republic of China:

Requestor: King Architectural Metals (“King”); whether King's pipe fittings for structural use in handrails and fencing are within the scope of the antidumping duty order; April 17, 2009.

A-570-864: Pure Magnesium in Granular Form from the People's Republic of China:

Requestor: ESM Group Inc.; whether atomized ingots are within the scope of the antidumping duty order; initiated April 18, 2007; preliminary ruling issued August 27, 2008.

A-570-868: Folding Metal Tables and Chairs from the People's Republic of China:

Requestor: Lifetime Products, Inc. (“Lifetime”); whether Lifetime's fold-in-half adjustable height tables are outside the scope of the antidumping duty order; requested June 30, 2009.

A-570-886: Polyethylene Retail Carrier Bags from the People's Republic of China:

Requestor: Majestic International, LLC; whether its 120 gift bags are within the scope of the antidumping duty order; requested May 5, 2009.

A-570-886: Polyethylene Retail Carrier Bags from the People's Republic of China:

Requestor: Care Line Industries, Inc.; whether certain bags designed for hospital use, which are not printed with store names or logos and packed in consumer packaging with printing indicating specific end-uses other than packaging or carrying merchandise from retail establishments, are within the scope of the antidumping duty order; requested June 4, 2009.

A-570-890: Wooden Bedroom Furniture from the People's Republic of China:

Requestor: Target Corporation (“Target”); whether Target's White Toy Box is within the scope of the antidumping duty order; requested May 20, 2009.

A-570-891: Hand Trucks from the People's Republic of China:

Requestor: Northern Tool & Equipment Co.; whether a high-axle torch cart (item #164771) is within the scope of the antidumping duty order; requested March 23, 2007.

A-570-899: Artist Canvas from the People's Republic of China:

Requestor: Art Supplies Enterprises, Inc.; whether framed artist canvas woven and primed in the Socialist Republic of Vietnam and cut and framed in the People's Republic of China is within the scope of the antidumping duty order; requested December 22, 2008.

A-570-899: Artist Canvas from the People's Republic of China:

Requestor: Art Supplies Enterprises, Inc.; whether framed artist canvas woven and primed in India and cut and framed in the People's Republic of China is within the scope of the antidumping duty order; requested May 20, 2009.

A-570-901: Lined Paper Products from the People's Republic of China:

Requestor: Livescribe Inc., whether the patented dot-patterned paper (trademarked “ANOTO”) is within the scope of the antidumping duty order; requested October 24, 2008; supplemented with additional information on July 14, 2009.

A-570-901: Lined Paper Products from the People's Republic of China:

Requestor: Wal-Mart Stores, Inc., whether the notebook component, when imported as part of the complete stationery set, is within the scope of the antidumping duty order; requested March 6, 2009.

A-570-901: Lined Paper Products from the People's Republic of China:

Requestor: Vera Bradley; whether its Clip Notes, which contain a standard sized clipboard measuring 10″; × 14″ with a hinged metal clip at the top and a single pad of lined paper measuring 8½″ × 11″, where the clip board and the single pad of paper are decorated with Vera Bradley's pattern design, are within the scope of the antidumping duty order; requested March 16, 2009.

A-570-904: Certain Activated Carbon from the People's Republic of China:

Requestor: Rolf C Hagen (USA) Corp; whether certain fish filter parts are within the scope of the antidumping duty order; requested November 14, 2008.

A-570-910 and C-570-911: Certain Welded Carbon Quality Steel Pipe from the People's Republic of China:

Requestor: Constantine N. Polites and Company; whether unfinished scaffolding pipe is within the scope of the antidumping duty order; requested March 30, 2009.

A-570-910 and C-570-911: Certain Welded Carbon Quality Steel Pipe from the People's Republic of China:

Requestor: Tubos California; whether its water pipes are within the scope of the antidumping duty order; requested May 27, 2009.

A-570-914: Light-Walled Rectangular Pipe and Tube from the People's Republic of China:

Requestor: MMI Products, Inc.; whether MMI Products, Inc.'s fence posts are within the scope of the antidumping duty order; requested June 19, 2009.

A-570-916 and C-570-917: Laminated Woven Sacks from the People's Republic of China:

Requestor: Shapiro Packaging; whether its “Manna Pro Calf Manna,” “Manna Pro Horse Feed,” and “Red Head Deer Corn” sacks are within the scope of the antidumping duty order; requested March 20, 2009.

A-570-918: Steel Wire Garment Hangers from the People's Republic of China:

Requestor: Econoco Corporation; whether chrome-plated hangers with a certain diameter are within the scope of the antidumping duty order; requested December 3, 2008.

A-570-918: Steel Wire Garment Hangers from the People's Republic of China:

Requestor: American Hanger; whether chrome-plated hangers with a certain diameter are within the scope of the antidumping duty order; requested December 1, 2008.

A-570-922: Raw Flexible Magnets from the People's Republic of China:

Requestor: It's Academic, Inc.; whether its seven packages of locker magnets are within the scope of the antidumping duty order, requested June 4, 2009.

A-570-924: Polyethylene Terephthalate (“PET”) Film from the People's Republic of China:

Requestor: Coated Fabrics Company; whether Amorphous PET (“APET”), Glycol-modified PET (“PETG”), and coextruded APET with PETG on its outer surfaces (“GAG Sheet”) are within the scope of the antidumping duty order; requested February 12, 2009.

Multiple Countries

A-570-922 and C-570-923: Raw Flexible Magnets from the People's Republic of China; A-583-842: Raw Flexible Magnets from Taiwan:

Requestor: Direct Innovations; whether certain decorative retail magnets are within the scope of the antidumping and countervailing duty orders; requested March 20, 2009.

Anticircumvention Rulings Pending as of June 30, 2009

People's Republic of China

A-570-849: Cut-to-Length Carbon Steel Plate from the People's Republic of China:

Requestor: Nucor Corporation, SSAB N.A.D., Evraz Claymont Steel, Evraz Oregon Steel Mills, and ArcelorMittal USA Inc.; whether adding metallurgically and economically insignificant amounts of boron is a minor alteration that circumvents the antidumping duty order; requested August 13, 2008; initiated October 10, 2008.

Interested parties are invited to comment on the completeness of this list of pending scope and anticircumvention inquiries. Any comments should be submitted to the Deputy Assistant Secretary for AD/CVD Operations, Import Administration, International Trade Administration, 14th Street and Constitution Avenue, NW., APO/Dockets Unit, Room 1870, Washington, DC 20230.

This notice is published in accordance with 19 CFR 351.225(o).

Dated: September 22, 2009.
John M. Andersen,
Acting Deputy Assistant Secretary for Antidumping and Countervailing Duty Operations.

[FR Doc. E9-23473 Filed 9-28-09; 8:45 am]

BILLING CODE 3510-DS-P